DEPARTMENT OF THE INTERIOR

National Indian Gaming Commission

Privacy Act of 1974; System of Records

AGENCY: National Indian Gaming Commission (NIGC or Commission), Interior.

ACTION: Notice of a modified system of records.

SUMMARY: In accordance with the Privacy Act of 1974, as amended, the NIGC is issuing public notice of its intent to modify an existing system of records entitled, Management Contract Individuals Record System. This system of records is used to maintain information that is collected in the course of conducting background investigations on individuals who are contracted to manage Tribal gaming operations and enterprises.

DATES: This modified system is effective upon publication in the Federal Register, except for its routine uses, which are effective April 10, 2023. Please submit any public comment pertaining to this notice on or before April 10, 2023.

ADDRESSES: Comments may be submitted to Tim Osumi, Senior Agency Official for Privacy using any of the following methods:

Mail: 1849 C Street NW, Mail Stop #1621, Washington, DC 20240.

Email: privacy@nigc.gov.

FOR FURTHER INFORMATION CONTACT: Tim Osumi, Senior Agency Official for Privacy at NIGC Office of Privacy, 1849 C Street NW, Mail Stop #1621, Washington, DC 20240; or by telephone at (202) 264-0676; or by email at tim.osum@nigc.gov.

SUPPLEMENTARY INFORMATION: Congress established the NIGC under the Indian Gaming Regulatory Act of 1988 (25 U.S.C. 2701 et seq.) (IGRA) to regulate gaming on Indian lands. The scope of this notice covers information necessary to ensure proper oversight of contract managers of Indian gaming operations and enterprises on Indian lands. The IGRA requires the Chair to (1) obtain background information on each person having a direct financial interest in, or management responsibility for, a management contract, (2) conduct background investigations of such persons, and (3) make a determination as to the person's eligibility and suitability for Indian gaming. The Commission stores this information in the current system of records. The following is a summary of the systemic modifications that are being proposed in this notice. For more details, please refer to the specific section referenced.

• System Manager has been updated.

• System Location has been updated.

• Categories of Records in the System has been updated to include three new categories: 11 (financial statements); 12 (criminal charges); and 13 (fingerprints). In addition, the descriptions of all existing categories have been modified for greater precision.

• Record Source Categories has been updated to include one new category: public information and information resources. Also, the categories for investigative reports compiled by tribes, Office of Personnel Management, contractors, or credit bureaus have been eliminated.

• Routine Uses of Records has been updated to include two new uses that will allow the agency to share information with outside entities as part of a coordinated response to a suspected or confirmed information breach.

• Policies and Practices for Storage of Records has been updated to account for the agency's transition from paper to electronic recordkeeping.

• Policies and Practices for Retention and Disposal of Records has been updated to include relevant records retention and disposition schedules that have been approved since the last public notice.

• Administrative, Technical, and Physical Safeguards has been updated to account for the agency's transition from paper to electronic recordkeeping and the Information Technology measures that are in place to protect the records.

SYSTEM NAME AND NUMBER:

Management Contract Individuals Record System—NIGC-2.

SECURITY CLASSIFICATION:

Unclassified.

SYSTEM LOCATION:

The records are in electronic format and located in electronic folders on a cloud tenant environment.

SYSTEM MANAGER(S):

Background Investigator Manager, National Indian Gaming Commission, 90K Street NE, Suite 200, Washington, DC 20002. tel: 202-632-7003

AUTHORITY FOR MAINTENANCE OF THE SYSTEM:

25 U.S.C. 2711.

PURPOSE(S) OF THE SYSTEM:

The records are used by Commission members and staff to review and verify eligibility and suitability of persons with a financial interest in, or management responsibility for, a management contract at an Indian gaming facility.

CATEGORIES OF INDIVIDUALS COVERED BY THE SYSTEM:

Persons with a financial interest in, or management responsibility for, a management contract as defined under 25 CFR part 502. Persons who are directors of a corporation that is party to a management contract.

CATEGORIES OF RECORDS IN THE SYSTEM:

Copies of applications; background and financial information collected by staff and copies of reports of background investigations. Such information includes: (1) Full name, other names used (oral or written), social security number(s), birth date, place of birth, citizenship, and gender; (2) A current photograph, driver's license number, and a list of all languages spoken or written; (3) Business and employment positions held, and business and residence addresses; the city, state and country of residences; (4) The names and current addresses of at least three personal references; (5) Current business and residence telephone numbers; (6) A description of any existing and previous business relationships with Indian tribes, including ownership interests in those businesses; (7) A description of any existing and previous business relationships with the gaming industry generally, including ownership interests in those businesses; (8) The name and address of any licensing or regulatory agency with which the person has filed an application for a license or permit relating to gaming; (9) For each gaming offense and for each felony for which there is an ongoing prosecution or a conviction, the name and address of the court involved, the charge, and the dates of the charge and of the disposition; (10) For each misdemeanor conviction or ongoing misdemeanor prosecution (excluding minor traffic violations) within ten years of the date of the application, the name and address of the court involved, and the dates of the prosecution and the disposition; (11) A complete financial statement showing all sources of income for the previous three years, and assets, liabilities, and net worth as of the date of the submission; (12) For each criminal charge (excluding minor traffic charges) regardless of whether or not it resulted in a conviction, if such criminal charge is within ten years of the date of the application and is not otherwise listed pursuant to 9 or 10 of this section, the name and address of the court involved, the criminal charge, and the dates of the charge and the disposition; (13) Fingerprint card submissions for each person for whom background information is provided under this section; (14) Whatever other information the NIGC deems relevant.

RECORD SOURCE CATEGORIES:

Individual applications and supplemental information provided by such applicants; background investigation reports compiled by the NIGC; information provided by persons interviewed as part of a background investigation; Federal, state, foreign, tribal, and local law enforcement and regulatory agencies; Commission staff and members; public records and information sources.

ROUTINE USES OF RECORDS MAINTAINED IN THE SYSTEM, INCLUDING CATEGORIES OF USERS AND THE PURPOSES OF SUCH USES:

1. To disclose relevant information to Federal, State, tribal, or local law enforcement or regulatory agencies to verify information supplied by applicants in connection with determining eligibility and suitability.

2. To disclose relevant information to tribes that engage management contractors to manage their Indian gaming operations.

3. In the event that records in this system indicate a violation or potential violation of law, criminal, civil, or regulatory in nature, the relevant records may be referred to the agency charged with responsibility for investigating or prosecuting such violation.

4. To disclose relevant information to a congressional office from the record of an individual in response to an inquiry from the congressional office made at the request of that individual.

5. To disclose relevant information to a Federal, State, local, or tribal agency (or their agents) that is involved in civil, criminal or regulatory investigations or prosecutions or investigations of activities while associated with a gaming operation to protect the integrity of Indian gaming.

6. To disclose relevant information to Indian tribal officials who have need for the information in the performance of their official duties.

7. To appropriate agencies, entities, and persons when:

(a) NIGC suspects or has confirmed that there has been a breach of the system of records;

(b) NIGC has determined that as a result of the suspected or confirmed breach there is a risk of harm to individuals, NIGC (including its information systems, programs, and operations), the Federal Government, or national security; and,

(c) the disclosure made to such agencies, entities, and persons is reasonably necessary to assist in connection with NIGC's efforts to respond to the suspected or confirmed breach or to prevent, minimize, or remedy such harm.

8. To another Federal agency or Federal entity, when the NIGC determines that information from this system of records is reasonably necessary to assist the recipient agency or entity in:

(a) Responding to suspected or confirmed breach; or

(b) preventing, minimizing, or remedying the risk of harm to individuals, the recipient agency or entity (including its information systems, programs, and operations), the Federal Government, or national security, resulting from a suspected or confirmed breach.

POLICIES AND PRACTICES FOR STORAGE OF RECORDS:

The records are maintained in electronic format in an electronic folder system.

POLICIES AND PRACTICES FOR RETRIEVAL OF RECORDS:

Individual applicant name, associated gaming operation or enterprise, management contractor.

POLICIES AND PRACTICES FOR RETENTION AND DISPOSAL OF RECORDS:

All records in the system are temporary records and retained and disposed of in compliance with records retention and disposition schedules that have been approved by the National Archives and Records Administration, including: NIGC Schedule DAA-600-2017-0008 Item 4 requires that background investigation final reports have a 10 year retention period; NIGC Schedule DAA-600-2017-0008 Item 5 requires that background investigation billing records have a 10 year retention period; NIGC Schedule DAA-600-2017-0008 Item 6 requires that background investigation submitted documents and working files have a 7 year retention period.

ADMINISTRATIVE, TECHNICAL, AND PHYSICAL SAFEGUARDS:

The system is only accessible to authorized users using strong password protection. It utilizes firewalls, intrusion detection prevention system (IDPS), a virtual protocol network (VPN) and encrypted communications to protect its perimeter. Access to the system is limited to NIGC personnel who have a need to know for the performance of their duties. Information within the system is compartmentalized and granular access is dependent on a permission structure that is role-based. All persons authorized to access the system are required to complete training that includes information about the legal requirements for proper handling of privacy information including criminal history records information (CHRI).

RECORD ACCESS PROCEDURES:

Individuals seeking access to information in this system of records about themselves are required to meet the requirements of NIGC regulations that implement the Privacy Act of 1974, at 25 CFR part 515.

CONTESTING RECORD PROCEDURES:

Requests for correction or amendment must identify the record to be changed and the corrective action sought in accordance with NIGC's Privacy Act regulations at 25 CFR part 515.

NOTIFICATION PROCEDURES:

Any individual who wants to know whether this system of records contains a record about themselves, can make a request in accordance with NIGC's Privacy Act regulations at 25 CFR part 515 to: Attn: Privacy & Records Information Management Office, National Indian Gaming Commission, 1849 C Street NW, Mail Stop #1621, Washington, DC 20240.

EXEMPTIONS PROMULGATED FOR THE SYSTEM:

Under 5 U.S.C. 552a(k)(2) the Commission is claiming exemptions from certain provisions of the Act for portions of its records. The exemptions and the reasons for them are described in the regulations 25 CFR 515.13.

HISTORY:

Notice of this system of records was last published in full in the Federal Register on March 15, 2004 (69 FR 12182).

E. Sequoyah Simermeyer,
Chairman, National Indian Gaming Commission.

[FR Doc. 2023-04672 Filed 3-8-23; 8:45 am]

BILLING CODE 7565-01-P